FEDERAL COMMUNICATIONS COMMISSION

47 CFR Parts 0, 1, 2, and 101

[WT Docket No. 20-133; DA 23-988; FR ID 181235]

Wireless Telecommunications Bureau Seeks To Refresh the Record in 70/80/90 GHz Bands Proceeding

AGENCY: Federal Communications Commission.

ACTION: Proposed rule.

SUMMARY: In this document, the Federal Communications Commission (Commission) seeks comment to refresh the record in the rulemaking on Modernizing and Expanding Access to the 70/80/90 GHz Bands (85 FR 40168, July 6, 2020; 86 FR 60436, Nov. 2, 2021) to address the potential for use of the 71-76 GHz, 81-86 GHz, 92-94 GHz, and the 94.1-95 GHz (70/80/90 GHz) bands to provide broadband internet access to consumers and communities that may otherwise lack robust, consistent connectivity. Specifically, the Commission previously proposed new and updated rules to further enable non-Federal uses of the 70/80/90 GHz bands, which are currently allocated on a co-primary basis for Federal and non-Federal use. This document seeks to refresh the overall record in the docket and seeks comment, in particular, on the proposals made in a filing by the National Telecommunications and Information Administration (NTIA) on October 17, 2023 (NTIA October 17 Filing). In that filing, NTIA proposed technical rules and interference mitigation measures, including operating parameters for links to endpoints in motion in 71-76 GHz and 81-86 GHz, to protect current or planned Federal operations in these frequencies and in adjacent bands.

DATES: Comments are due on or before November 8, 2023.

ADDRESSES: You may submit comments, identified by WT Docket No. 20-133, by any of the following methods:

• Electronic Filers: Comments may be filed electronically using the internet by accessing the ECFS: www.fcc.gov/ecfs/.

• Paper Filers: Parties that choose to file by paper must file an original and one copy of each filing. Filings can be sent by commercial overnight courier, or by first-class or overnight U.S. Postal Service mail. All filings must be addressed to the Commission's Secretary, Office of the Secretary, Federal Communications Commission.

○ Commercial overnight mail (other than U.S. Postal Service Express Mail and Priority Mail) must be sent to 9050 Junction Drive, Annapolis Junction, MD 20701.

○ Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (Mar. 19, 2020), https://www.fcc.gov/document/fcc-closes-headquarters-open-window-andchanges-hand-delivery-policy.

People with Disabilities. To request materials in accessible formats for people with disabilities (Braille, large print, electronic files, audio format), send an email to fcc504@fcc.gov or call the Consumer and Governmental Affairs Bureau at 202-418-0530 (voice), 202-418-0432 (tty).

FOR FURTHER INFORMATION CONTACT: Jeffrey Tignor, Broadband Division, Wireless Telecommunications Bureau, at (202) 418-0530 or Jeffrey.Tignor@fcc.gov.

SUPPLEMENTARY INFORMATION: This is a summary of the Commission's Public Notice, DA 23-988, rel. October 17, 2023 in WT Docket No. 20-133. The full text of the document is available on the Commission's website at: https://docs.fcc.gov/public/attachments/DA-23-988A1.pdf. Text and Microsoft Word formats are also available (replace “.pdf” in the link with “.txt” or “.docx”, respectively). Alternative formats are available for people with disabilities (Braille, large print, electronic files, audio format), by sending an email to fcc504@fcc.gov or call the Commission's Consumer and Governmental Affairs Bureau at (202) 418-0530 (voice), (202) 418-0432 (TTY).

Providing Accountability Through Transparency Act. A summary of this document is available at https://www.fcc.gov/proposed-rulemakings.

Synopsis. With this document, the Wireless Telecommunications Bureau (Bureau) seeks to refresh the overall record in WT Docket No. 20-133 and seeks comment, in particular, on the proposals in the NTIA October 17 Filing. In its 70/80/90 GHz NPRM, the Commission proposed new and updated rules to further enable non-Federal uses of the 71-76 GHz, 81-86 GHz, 92-94 GHz, and 94.1-95 GHz bands (collectively, the 70/80/90 GHz bands), which are currently allocated on a co-primary basis for Federal and non-Federal use.¹ The Commission specifically committed to “coordinate any proposed rule changes with the affected agencies and the National Telecommunications and Information Administration,” noting the need to “work with NTIA to evaluate potential impacts associated with any new or expanded non-Federal use of shared allocations.” ²

¹ Modernizing and Expanding Access to the 70/80/90 GHz Bands, WT Docket No. 20-133, Notice of Proposed Rulemaking, 35 FCC Rcd 6039 (2020), 85 FR 40168 (Jul. 6, 2020) (70/80/90 GHz NPRM); 47 CFR 2.106; see also 70/80/90 GHz NPRM, 35 FCC Rcd at 6040 through 41 paragraph 2 (providing additional details on existing Federal and non-Federal allocations in co- and adjacent bands and protections).

² 70/80/90 GHz NPRM, 35 FCC Rcd at 6040, para. 1; see also id. at 6041, 6055 through 58, paragraphs 2, 40, 42-45 (seeking comment—if the Commission authorizes links to endpoints in motion—on technical rules and interference mitigation measures such as restrictions or unique operating parameters that might be necessary to protect, inter alia, co-primary and adjacent Federal operations including vehicular radars, passive services, and Radio Astronomy Services).

The 70/80/90 GHz NPRM sought comment on a range of issues, including proposals by Aeronet Global Communications, Inc. (Aeronet) to use the bands to provide broadband service to aircraft and ships in motion.³ The Commission also made proposals and solicited comment in part relating to applicable antenna standards, the extant link registration process, and possible band channelization.⁴ Among other developments in this proceeding, on October 17, 2023, NTIA submitted a filing to supplement the record—comprised of a cover letter and three attachments—proposing technical rules and interference mitigation measures, including operating parameters for links to endpoints in motion in 71-76 GHz and 81-86 GHz, to protect current or planned Federal operations in these frequencies and in adjacent bands.⁵ The NTIA October 17 Filing is based on the work of a technical interchange group (TIG) comprised of representatives from affected Federal agencies.⁶

³ 70/80/90 GHz NPRM, 35 FCC Rcd at 6049 through 58, paragraphs 22 through 45.

⁴ 70/80/90 GHz NPRM, 35 FCC Rcd at 6045 through 48, paragraphs 10 through 17 (“Antenna Rules”); id. at 6048 through49 paragraphs 18 through 21 (“Link Registration Process”); id. at 6058 through 59, paragraphs 46 through49 (“Channelization Plan”). In October 2021 the Bureau issued a document seeking to further develop the record on the use of High Altitude Platform Stations (HAPS) or other stratospheric-based platform services in the 70/80/90 band. Wireless Telecommunications Bureau Seeks to Supplement the Record on 70/80/90 GHz Notice of Proposed Rulemaking, WT Docket No. 20-133, Public Notice, 36 FCC Rcd 14375 (WTB 2021), 86 FR 60436 (Nov. 2, 2021).

⁵ Letter from Charles Cooper, Associate Administrator, Office of Spectrum Management, National Telecommunications and Information Administration, to Ronald T. Repasi, Chief, Office of Engineering and Technology, Federal Communications Commission, and Joel Taubenblatt, Chief, Wireless Telecommunications Bureau, Federal Communications Commission, WT Docket No. 20-133 (filed October 17, 2023) (NTIA October 17 Filing). Attachment A to the NTIA Filing summarizes suggested interference mitigations based on collaboration between NTIA and the Federal operators identified in footnote 6, infra; Attachment B details the technical analyses performed by the same; and Attachment C proposes rule text for the Commission to consider.

⁶ Specifically, the TIG included representatives from the National Aeronautics and Space Administration, the National Oceanic and Atmospheric Administration, the National Science Foundation, the Department of the Air Force, and NTIA itself. Commission staff participated in regular information exchange meetings with the TIG. NTIA October 17 Filing at 2.

Federal Communications Commission.
Blaise Scinto,
Chief, Broadband Division, Wireless Telecommunications Bureau.

[FR Doc. 2023-23738 Filed 10-27-23; 8:45 am]

BILLING CODE 6712-01-P